DEPARTMENT OF AGRICULTURE

Submission for OMB Review; Comment Request

July 8, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Direct Certification and Certification of Homeless, Migrant and Runaway Children for Free School Meals.

OMB Control Number: 0584—New.

Summary of Collection: The Richard B. Russell National School Lunch Act (NSLA), as amended, authorizes the National School Lunch Program (NSLP). Section 104 of the Child Nutrition and WIC Reauthorization Act of 2004 added section 9(b)(4) to the NSLA (42 U.S.C. 1758(b)(4)) to require local education agencies to directly certify, without further application, any child who is a member of a household receiving Supplemental Nutrition Assistance Program (SNAP) benefits and also the certification of certain children who are homeless, runaway, or migratory.

Need and Use of the Information: The purpose of this data collection associated with rulemaking is to comply with the requirements of Section 104 of Public law 108-265 for State agencies and local educational agencies. The intent is to improve school meal program access for low-income children, reduce paperwork for households and program administrators, and improve the integrity of the free and reduced price meal certification process.

Description of Respondents: State, Local, or Tribal Government.

Number of Respondents: 20,858.

Frequency of Responses: Recordkeeping; Reporting: On occasion.

Total Burden Hours: 52,145.

Ruth Brown,
Departmental Information Collection Clearance Officer.

[FR Doc. 2013-16649 Filed 7-10-13; 8:45 am]

BILLING CODE 3410-30-P